DEPARTMENT OF COMMERCE

International Trade Administration

[A-552-833]

Raw Honey From the Socialist Republic of Vietnam: Final Results of Antidumping Duty Changed Circumstances Review

AGENCY: Enforcement and Compliance, International Trade Administration, Department of Commerce.

SUMMARY: The U.S. Department of Commerce (Commerce) finds the Socialist Republic of Vietnam (Vietnam) remains a non-market economy (NME) country for purposes of U.S. antidumping duty (AD) law due to the sustained and pervasive government influence over its country's economic activities.

DATES: Applicable August 7, 2024.

FOR FURTHER INFORMATION CONTACT: Chien-Min Yang, Office of Policy, Enforcement and Compliance, International Trade Administration, U.S. Department of Commerce, 1401 Constitution Avenue NW, Washington, DC 20230; telephone: (202) 482-5484.

SUPPLEMENTARY INFORMATION:

Background

Commerce determined that Vietnam was an NME country under the U.S. AD law in 2002. Since then, Commerce has consistently treated Vietnam as an NME in all AD investigations and administrative reviews involving imported products from Vietnam.

On September 8, 2023, the Government of Vietnam (GOVN) submitted a letter to Commerce requesting a review of Vietnam's status as an NME country within the context of a changed circumstances review (CCR) of the AD order on raw honey from Vietnam.¹ In response, Commerce initiated a NME CCR and published the initiation in the Federal Register on October 30, 2023.² This review examines whether Vietnam remains an NME country for purposes of the AD law, in accordance with sections 751(b) and 771(18)(C)(ii) of the Tariff Act of 1930, as amended (the Act).

¹ See GOVN's Letter, “Request for the U.S. Commerce to Initiate a Changed Circumstances Review,” dated September 8, 2023.

² See Raw Honey from the Socialist Republic of Vietnam: Initiation of Antidumping Duty Changed Circumstances Review, 88 FR 74152 (October 30, 2023).

To ensure full public and interested party participation in this inquiry, Commerce invited public comment on Vietnam's economic status as an NME country. All comments and rebuttal comments were received by December 21, 2023, and February 1, 2024, respectively. Invitations for comments, along with the comments and rebuttal comments themselves, have remained accessible using the Federal eRulemaking portal at https://www.regulations.gov under Docket Number ITA-2023-0010.

On March 8, 2024, Commerce received new factual information from several domestic industries claiming that the GOVN submitted false statements and omitted material facts regarding Vietnam's alleged reforms in the context of the ongoing review of Vietnam's status as an NME country.³ Given that Commerce has the inherent authority to protect the integrity of its proceedings, it accepted the alleged information as part of the administrative record and allowed all other interested parties as well as the public to comment on these allegations until April 5, 2024.⁴

³ See Domestic Interested Parties' Letter, “Raw Honey from the Socialist Republic of Vietnam- Comments on the Government of Vietnam's False Statements and Material Omissions,” dated March 8, 2024. The domestic interested parties are: Catfish Farmers of America and individual U.S. catfish processors America's Catch, Inc., Alabama Catfish, LLC d/b/a Harvest Select Catfish, Inc., Consolidated Catfish Companies, LLC d/b/a Country Select Catfish, Delta Pride Catfish, Inc., Guidry's Catfish, Inc., Heartland Catfish Company, Magnolia Processing, Inc. d/b/a Pride of the Pond, and Simmons Farm raised Catfish, Inc.

⁴ See Memorandum, “Changed Circumstances Review of the Socialist Republic of Vietnam's Status as a Non-market Economy Country: Extension of Time to File Rebuttal Comments,” dated March 29, 2024.

On May 8, 2024, Commerce also held a public hearing regarding the CCR of Vietnam's status as an NME country.⁵ This hearing allowed the interested parties and the general public who participated in the proceeding to express their views.

⁵ See Hearing Transcript, “Public Hearing,” dated May 8, 2024.

Analysis of Comments Received

Commerce's analysis of the issues raised by parties to this CCR regarding Vietnam's status as a non-market economy country is included in the NME Analysis Memorandum.⁶ The NME Analysis Memorandum is a public document on file electronically via Enforcement and Compliance's Antidumping and Countervailing Duty Centralized Electronic Service System (ACCESS). ACCESS is available to registered users at https://access.trade.gov. In addition, a complete version of the NME Analysis Memorandum can be accessed directly at https://access.trade.gov/public/FRNoticesListLayout.aspx.

⁶ See Memorandum, “Review of Vietnam's Status as a Non-market Economy Country,” dated concurrently with this notice (NME Analysis Memorandum).

Final Results of Changed Circumstances Review

This CCR was conducted pursuant to section 771(18)(A) of the Act, which defines the term “non-market economy country” as a foreign country determined by Commerce not to “operate on market principles of cost or pricing structures, so that sales of merchandise in such country do not reflect the fair value of the merchandise.” Section 771(18)(B) of the Act lists six factors Commerce must consider in any inquiry made under section 771(18)(A) of the Act, and under section 771(18)(C)(i) of the Act, a country's NME status remains in effect until revoked.

Section 771(18)(B) of the Act requires that Commerce take into account: (1) the extent to which the currency of the foreign country is convertible into the currency of other countries; (2) the extent to which wage rates in the foreign country are determined by foreign bargaining between labor and management; (3) the extent to which joint ventures or other investments by firms of other foreign countries are permitted in the foreign country; (4) the extent of government ownership or control of the means of production; (5) the extent of government control over the allocation of resources and over the price and output decisions of enterprises; and (6) such other factors as the administering authority (i.e., Commerce) considers appropriate.

Since Commerce's Vietnam NME Determination (2002),⁷ the GOVN has undertaken notable market-oriented reforms to promote the development of a more market-based economic system. These reforms have helped make its national currency, the dong, more readily convertible, increased Vietnam's openness to foreign investment, and gradually reduced government ownership over the means of production within the economy.

⁷ See Memorandum, “Antidumping Duty Investigation of Certain Frozen Fish Fillets from the Socialist Republic of Vietnam—Determination of Market Economy Status,” dated November 8, 2002 (Commerce Vietnam NME Determination (2002)).

Despite these market-oriented reforms, the GOVN remains entrenched in many aspects of the Vietnamese economy. The State Bank of Vietnam is still not independent and continues to intervene in the foreign exchange market to influence the value of the dong. Labor unions remain dominated by the state-controlled Vietnam General Confederation of Labor, hindering genuine collective bargaining and ultimately creating conditions for suppressed wages and labor costs. Although Vietnam has taken steps to make its overall foreign direct investment environment more attractive, market access barriers, regulatory transparency, and restrictions on corporate control and foreign ownership persist.

In addition to the above referenced points, Vietnam's economy is still characterized by significant state ownership and control over the means of production, most notably over companies and land. The GOVN continues to play a significant role over the pricing and allocation of credit in Vietnam. State-owned enterprises (SOE) command a disproportionate amount of lending credit, among other structural advantages, despite the SOE's relatively low efficiency levels compared to their private-sector counterparts. The GOVN also uses state-directed planning to communicate its objectives for the economy in terms of business outcomes and resource allocations, and pervasive government price controls continue to influence final prices of goods in Vietnam. Finally, the Communist Party of Vietnam's influence over the judicial system and persistent challenges with corruption continue to undermine some of Vietnam's reform initiatives.

In sum, while Vietnam has implemented notable market-oriented reforms, the extent of government involvement in the economy continues to distort market conditions, rendering Vietnamese prices and costs unusable for U.S. antidumping duty calculations. Therefore, based on the totality of the six factors analyzed, Commerce determines that Vietnam remains a non-market economy for purposes of U.S. AD law.

Notification to Interested Parties

This notice is issued and published in accordance with sections 751(b) and 771(18)(C)(ii) of the Act.

Dated: August 1, 2024.
Ryan Majerus,
Deputy Assistant Secretary for Policy and Negotiations, performing the non-exclusive functions and duties of the Assistant Secretary for Enforcement and Compliance.

[FR Doc. 2024-17418 Filed 8-6-24; 8:45 am]

BILLING CODE 3510-DS-P